DEPARTMENT OF THE INTERIOR

Bureau of Land Management

[CO-800-1430-EU; COC 71056]

Notice of Realty Action; Proposed Non-Competitive (Direct) Sale of Public Land, La Plata County, CO

AGENCY: Bureau of Land Management, Interior.

ACTION: Notice of realty action.

SUMMARY: Public lands totaling 2.11 acres, in La Plata County, Colorado, are being considered for direct sale to Indian Shadow Preserve, LP, under the provisions of the Federal Land Policy Management Act of 1976 (FLPMA), at no less than the appraised fair market value.

DATES: In order to ensure consideration in the environmental analysis of the proposed sale, comments must be received by October 4, 2007.

ADDRESSES: Address all comments concerning this Notice to Pauline E. Ellis, Columbine Field Manager, Bureau of Land Management, 15 Burnett Court, Durango, Colorado 81301.

FOR FURTHER INFORMATION CONTACT: Charlie Higby, Realty Specialist, BLM, 15 Burnett Court, Durango, Colorado 81301, or phone (970) 385-1374.

SUPPLEMENTARY INFORMATION: The following described public land is being considered for sale on a non-competitive (direct) sale basis to Indian Shadow Preserve, LP, in accordance with Section 203(f)(2) of the Federal Land Policy and Management Act of 1976, (90 Stat. 2750, 43 U.S.C. 1713):

New Mexico Principal Meridian

T. 35 N., R. 11 W.

Sec. 11: lots 2 and 4.

The area described contains 2.11 acres in La Plata County.

The BLM Columbine Field Manager has determined that a non-competitive (direct) sale will be in the best interest of the public in facilitating overall administration of public lands in the vicinity of the sale parcel. The FLPMA authorizes the use of direct sales of public lands to recognize public policies by giving preference to users such as adjoining land owners. The BLM parcel lacks public access. The parcel varies from 28 feet to 38 feet in width, is approximately 2,600 feet in length, and is bounded on three sides by the private land of the sale proponent. The subject land is administered through the 1985 BLM San Juan/San Miguel Resource Management Plan. Conveyance of title to the parcel will be subject to valid existing rights and encumbrances of record, including but not limited to, rights-of-way for roads and public utilities. Conveyance of any mineral interests pursuant to Section 209 of the FLPMA will be analyzed during processing of the proposed sale.

On August 20, 2007 the above-described land will be segregated from appropriation under the public land laws, including the mining laws, except the sale provisions of the FLPMA. The segregative effect will terminate upon issuance of a patent, publication in the Federal Register of a termination of the segregation, or August 19, 2009, unless extended by the BLM State Director in accordance with 43 CFR 2711.1-2(d) prior to the termination date.

Public Comments

For a period until October 4, 2007, interested parties and the general public may submit in writing any comments concerning the lands being considered for sale, including notification of any encumbrances or other claims relating to the identified lands, to Pauline E. Ellis, BLM Columbine Field Office, at the above address. In order to ensure consideration in the environmental analysis of the proposed sale, comments must be in writing and postmarked or delivered by October 4, 2007. Comments transmitted via e-mail will not be accepted.

Before including your address, phone number, e-mail address, or other personal identifying information in your comment, you should be aware that your entire comment—including your personal identifying information—may be made publicly available at any time. While you can ask us in your comment to withhold your personal identifying information from public review, we cannot guarantee that we will be able to do so.

Comments, including names and street addresses of respondents, will be available for public review at the BLM Columbine Field Office during regular business hours, except holidays.

(Authority: 43 CFR 2711.1-2)

Pauline E. Ellis,
Columbine Field Manager.

[FR Doc. E7-16352 Filed 8-17-07; 8:45 am]

BILLING CODE 4310-JB-P